DEPARTMENT OF VETERANS AFFAIRS

[OMB Control No. 2900-NEW]

Agency Information Collection (Principles of Excellence Complaint System Intake) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 25, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (Principles of Excellence Complaint System Intake) in any correspondence.

FOR FURTHER INFORMATION CONTACT: Crystal Rennie, Enterprise Records Service (005R1B), Department of Veterans Affairs, 810 Vermont Avenue NW., Washington, DC 20420, (202) 632-7492 or email crystal.rennie@.va.gov. Please refer to “OMB Control No. 2900-NEW (Principles of Excellence Complaint System Intake).”

SUPPLEMENTARY INFORMATION:

Title: Principles of Excellence Complaint System Intake.

OMB Control Number: 2900-NEW.

Type of Review: New collection.

Abstract: The purpose of the complaint system is to provide a standardized method to submit a complaint against an educational institution alleging fraudulent and unduly aggressive recruiting techniques, misrepresentation, payment of incentive compensation, failure to meet state authorization requirements, or failure to adhere to the Principles of Excellence as outlined in the Executive Order 13607, Establishing Principles of Excellence for Educational Institutions Serving Service Members, Veterans, Spouses, and Other Family Members.

The VA's Principles of Excellence Complaint System (PoECS) will leverage DoD's complaint system to intake and manage complaints utilizing their systems architecture with each agency only having access to their data. The complainants will access the complaint system through the GI Bill Web site and eBenefits portal. Veterans, family members, or other members of the public will be able to open links at either VA Web site location and enter the requested information. Complainants will be offered the opportunity to review the information in their complaint prior to clicking on the submit button. Once a complaint is submitted, the complainant will receive an email verifying that the complaint was received. At this point, the complaint will be stored in the complaint system and be available to select VA employees for review. VA will review the complaint and on behalf of the complainant will share the complaint with the institution which is subject of the complaint. VA will request the institution to formally respond to the complaint within 90 days. If an institution fails to respond within 90 days, VA will contact the institution and request a status update. Once VA receives a response from the institution, VA will forward the response to the complainant. At this point, VA will close the case. Valid complaints received will be transmitted to the central repository at FTC Consumer Sentinel. The information in the central repository is the same information provided by the complainant. Authorized law enforcement officials who have been granted access to the FTC Consumer Sentinel database will have access to view all complaints. The information gathered through the system can only be obtained from the individual respondent. Valid complaints will be accepted from third parties.

An agency may not conduct or sponsor, and a person is not required to respond to a collection of information unless it displays a currently valid OMB control number. The Federal Register Notice with a 45-day comment period soliciting comments on this collection of information was published on August 28, 2013, at pages 53196-53197.

Affected Public: Individuals or households.

Estimated Annual Burden: 300 hours.

Estimated Average Burden per Respondent: 15 minutes.

Frequency of Response: One-time.

Estimated Number of Respondents: 1,200.

Dated: October 22, 2013.
By direction of the Secretary.
Crystal Rennie,
VA Clearance Officer, Department of Veterans Affairs.

[FR Doc. 2013-25141 Filed 10-24-13; 8:45 am]

BILLING CODE 8320-01-P